DEPARTMENT OF THE INTERIOR

Fish and Wildlife Service

Notice of Receipt of Applications for Permit

Endangered Species

The following applicants have applied for a permit to conduct certain activities with endangered species. This notice is provided pursuant to section 10(c) of the Endangered Species Act of 1973, as amended (16 U.S.C. 1531, et seq.):

Applicant: George Carden Circus Intl Inc., Springfield, MO, PRT-716913, 716914, 716917.

The applicant requests a re-issuance of their permit to re-export and re-import Asian elephants (Elephas maximus) and progeny of the animals currently held by the applicant and any animals acquired in the United States by the applicant to/from worldwide locations to enhance the survival of the species through conservation education. This notification covers activities conducted by the applicant over a three-year period.

Applicant: Randy Miller dba Randy Miller's Predators in Action, Inc., Big Bear City, CA, PRT-034691.

The applicant requests a permit to import the remains of their tiger (Panthera tigris) which died while traveling overseas under US CITES PRT-018063 for conservation education purposes. The applicant intends to use the remains for conservation education purposes within the United States.

Applicant: National Marine Fisheries Service/Southwest Fisheries Center, La Jolla, CA PRT-844694.

The applicant request a permit to import biological samples (blood, tissue and stomach contents) from Green sea turtle (Chelonia mydas), Leatherback sea turtle (Dermochelys coriacea), Hawksbill sea turtle (Eretmochelys imbricata), and Olive Ridley sea turtle, (Lepidochelys olivacea) from worldwide sources for the purpose of scientific research. This notification covers activities conducted by the applicant over a three year period.

Applicant: White Oak Conservation Center, Yulee, FL, PRT-033790.

The applicant requests a permit to import 6 wild caught cheetahs (Acinonyx jubatus) from the Cheetah Conservation Fund, Namibia, for the purpose of captive propagation.

Applicant: University of Georgia, Institute of Ecology, Athens, GA, PRT-034780.

The applicant requests a permit to import biological samples from captive born Rothschild's Starlings (Leucospar rothschildi) from Durrell Wildlife Conservation Trust, Les Augres Manor, Trinity, Jersey, Channel Islands for the purpose of enhancement of the species through scientific research. This notification covers activities conducted by the applicant over a three-year period.

Applicant: Smithsonian Museum of Natural History, Washington, D.C. PRT-034656.

The applicant request a permit to import rib bone fragments from African elephant (Loxodonta africana) and black rhinoceros (Diceros bicornis) opportunistically collected from the wild from Kenya for the purpose of scientific research.

Applicant: The Peregrine Fund, Boise, ID, PRT-034604.

On October 13, 2000, the U.S. Fish and Wildlife Service issued a permit to the Peregrine Fund for the import of one blood sample (10ML) from a captive-held Harpy eagle (Harpia harpyja) from Panama. The 30-day public comment period required by section 10(c) of the Endangered Species Act was waived. The Service determined that an emergency affecting the care and health of the eagle existed and that no reasonable alternative was available to the applicant.

Marine Mammals

The public is invited to comment on the following application for a permit to conduct certain activities with marine mammals. The application was submitted to satisfy requirements of the Marine Mammal Protection Act of 1972, as amended (16 U.S.C. 1361 et seq.) and the regulations governing marine mammals (50 CFR 18).

Applicant: U.S.G.S. Alaska Science Center, Anchorage AK, PRT-690038.

Permit Type: Take, import, and export for scientific research.

Name and Number of Animals: Polar bear (Ursus maritimus), 200.

Summary of Activity To Be Authorized: The applicant has requested renewal and amendment of the permit for take activities, import and export to include: Chemically immobilize; ear-tag; tattoo; paint-mark; remove tooth; measure (including bio-electrical impedance); weigh; collect samples of blood, blubber, skin, and claw shavings (from the captured bears and from legally hunted and salvaged bears); fit up to 50 females bears with a neck collar of either a VHF radio transmitter device or a satellite transmitter device; recapture and release; import an unspecified number of biological samples from legally acquired polar bears; and export an unspecified number of biological samples acquired from the captured bears, from legally hunted bears, and from salvaged bears for the purpose of scientific research.

Source of Marine Mammals: North and Northwest coast of Alaska, pack and fast-ice of the Beaufort, Bering, and Chukchi Seas, and import samples from Canada, Greenland, Norway, or Russia.

Period of Activity: From the issuance date of the permit to October 31, 2005.

Applicant: Florida Museum of Natural History, Gainesville, FL, PRT-033974.

Permit Type: Take for scientific research.

Name and Number of Animals: Manatees (Trichechus spp.), approximately 50 samples from 25 individual animals annually.

Summary of Activity To Be Authorized: The applicant has requested a permit to conduct stable isotopic analyses of tooth fragments taken from existing museum specimens of the three manatee species (T. inunguis, T. manatus, and T. senegalensis) and from teeth that have been naturally shed from captive individuals of West Indian manatees (T. manatus). These teeth fragments will be analyzed for the determination of diet composition to compare the modern manatees' diet with ancient manatee diet.

Source of Marine Mammals: Existing museum specimens, captive-held animals in U.S. facilities.

Period of Activity: Up to three years from the issuance date of the permit.

Applicant: U.S.G.S., Biological Resources Division, Santa Cruz, CA, PRT-672624.

Permit Type: Take for scientific research.

Name and Number of Animals: Southern sea otter (Enhydra lutris nereis), up to 500.

Summary of Activity To Be Authorized: The applicant has requested an amendment to the permit to authorize capture and flipper tagging of up to 500 sea otters, take blood and tooth samples from 250 animals, and instrument 135 animals with implanted radio transmitters. In addition, up to 30 of the implanted animals will be instrumented with TDRs (time/depth recorders); up to 10 of the implanted animals will be recaptured annually for the first 2 years to retrieve and replace the implanted radios; and up to 25 of these animals per year will be recaptured once for the years 3 through 5 to replace their implanted radios. No animals weighing less than 20 pounds will be surgically instrumented.

Source of Marine Mammals: Entire range of Southern sea otters in California.

Period of Activity: Up to 5 years from the issuance date of the amended permit.

Applicant: Branko Terkovich, Mendham, NJ, PRT-034570.

The applicant requests a permit to import a polar bear (Ursus maritimus) sport-hunted from the Lancaster Sound polar bear population, Northwest Territories, Canada for personal use.

Written data or comments should be submitted to the Director, U.S. Fish and Wildlife Service, Division of Management Authority, 4401 North Fairfax Drive, Room 700, Arlington, Virginia 22203 and must be received by the Director within 30 days of the date of this publication.

The U.S. Fish and Wildlife has information collection approval from OMB through February 28, 2001. OMB Control Number 1018-0093. Federal Agencies may not conduct or sponsor and a person is not required to respond to a collection of information unless it displays a current valid OMB control number.

Documents and other information submitted with these applications are available for review, subject to the requirements of the Privacy Act and Freedom of Information Act, by any party who submits a written request for a copy of such documents to the following office within 30 days of the date of publication of this notice: U.S. Fish and Wildlife Service, Office of Management Authority, 4401 North Fairfax Drive, Room 700, Arlington, Virginia 22203. Phone: (703/358-2104); FAX: (703/358-2281).

Dated: October 13, 2000.
Charlie Chandler,
Chief, Branch of Permits, Division of Management Authority.

[FR Doc. 00-26944 Filed 10-18-00; 8:45 am]

BILLING CODE 4310-55-U